DEPARTMENT OF THE TREASURY

Internal Revenue Service

[EE-34-95]

Agency Information Collection Activities: Proposed Collection; Comment Request; Correction

AGENCY: Internal Revenue Service (IRS), Treasury.

ACTION: Correction to notice and request for comments.

SUMMARY: This document contains a correction to a notice and request for comments relating to inviting the general public and other agencies to comment on proposed and/or continuing information collections. This document was published in the Federal Register on February 13, 2002 (67 FR 6788).

FOR FURTHER INFORMATION CONTACT: Allan Hopkins (202) 622-6665 (not a toll-free number).

SUPPLEMENTARY INFORMATION:

Background

The notice and request for comments that is the subject of this correction is required by the Paperwork Reduction Act of 1995, Public Law 104-13 (44 U.S.C. 3506 (c)(2)(A)).

Need for Correction

As published, the notice and request for comments contains an error that may prove to be misleading and is in need of clarification.

Correction of Publication

Accordingly, the publication of the notice and request for comments, which is the subject of FR. Doc 02-3528, is corrected as follows:

On page 6788, column 2, in the preamble, paragraph 7, line 2, the language “Hours: 1,500” is corrected to read “Hours: 15,000”.

Cynthia E. Grigsby,
Chief, Regulations Unit, Associate Chief Counsel, Income Tax and Accounting.

[FR Doc. 02-5481 Filed 3-6-02; 8:45 am]

BILLING CODE 4830-01-P